DEPARTMENT OF DEFENSE

Office of the Secretary

Meeting of the Technology and Privacy Advisory Committee (TAPAC)

AGENCY: Department of Defense.

ACTION: Notice of meeting.

SUMMARY: Notice is hereby given of a forthcoming open meeting of the Technology and Privacy Advisory Committee. The purpose of the meeting is for presentations of interest and discussion concerning the legal and policy considerations implicated by the application of advanced information technologies to counter-terrorism and counter-intelligence missions.

DATES: Monday, September 29, 2 p.m. to 5 p.m. and Tuesday September 30, 8 a.m. to 4 p.m.

ADDRESSES: The Ritz Carlton, 1250 South Hayes St., Arlington, VA 22202, http://www.ritzcarlton.com, 703-415-5000.

FOR FURTHER INFORMATION CONTACT: Visit the Committee's Web site at http://www.sainc.com/tapac, or contact Ms. Lisa Davis, Executive Director, Technology and Privacy Advisory Committee, The Pentagon, Room 3E1045, Washington, DC 20301-3330, telephone 703-695-0903.

Dated: September 4, 2003.
Patricia L. Toppings,
Alternate OSD Federal Register, Liaison Officer, Department of Defense.

[FR Doc. 03-23113 Filed 9-10-03; 8:45 am]

BILLING CODE 5001-08-M